DEPARTMENT OF ENERGY

Federal Energy Regulatory Commission

[Docket No. RP00-157-001]

Kern River Gas Transmission Company; Notice of Compliance Filing

February 18, 2000.

Take notice that on February 14, 2000, Kern River Gas Transmission Company (Kern River) tendered for filing as part of its FERC Gas Tariff, First Revised Volume No. 1, the following substitute tariff sheets, to be effective February 1, 2000:

Substitute Third Revised Sheet No. 16

Substitute Third Revised Sheet No. 56

Substitute Second Revised Sheet No. 91

Substitute Original Sheet No. 143

Substitute Original Sheet No. 144

Substitute Second Revised Sheet No. 508

Substitute First Revised Sheet No. 521-A

Substitute Third Revised Sheet No. 609

Substitute Second Revised Sheet No. 621

Substitute Third Revised Sheet No. 710

Substitute Second Revised Sheet No. 724

Substitute Third Revised Sheet No. 810

Substitute Third Revised Sheet No. 836

Kern River states that the purpose of this filing is to revise the above tariff sheets to comply with the Commission's January 28, 2000 Order in this proceeding.

Kern River states that a copy of this filing has been served upon each person designated on the official service list compiled by the Secretary in this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-4453 Filed 2-24-00; 8:45 am]

BILLING CODE 6717-01-M